DEPARTMENT OF ENERGY

Federal Energy Regulatory Commission

[Docket No. RP01-371-000]

Northern Natural Gas Co.; Notice of Proposed Changes in FERC Gas Tariff

April 10, 2001.

Take notice that on April 5, 2001 Northern Natural Gas Company (Northern) tendered for filing as part of its FERC Gas Tariff, Fifth Revised Volume No. 1, the following tariff sheets proposed to be effective May 6, 2001:

Fifth Revised Sheet No. 135

Fourth Revised Sheet No. 139

Northern is filing these tariff sheets to amend the current language in Northern's FERC Gas Tariff to allow Northern to provide additional Firm Deferred Delivery (FDD) Service by acquisition of third party storage and to replace reference to Northern's Electronic Bulletin Board with its Internet Website.

Northern further states that copies of the filing have been mailed to each of its customers and interested State Commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www/ferc/fed.us/efi/doorbell.htm.

David P. Boergers,
Secretary.

[FR Doc. 01-9301 Filed 4-13-01; 8:45 am]

BILLING CODE 6717-01-M